DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget under the Paperwork Reduction Act of 1995. To request more information on the proposed project or to obtain a copy of the data collection plans and draft instruments, call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Retention Survey of NHSC Clinicians and Alumni/NHSC Site Administrators—

[NEW] The National Health Service Corps (NHSC) Loan Repayment and Scholarship Programs were established to assure an adequate supply of trained primary care health care professionals to provide services in the neediest Health Professional Shortage Areas (HPSAs) of the United States. Under these programs, the Department of Health and Human Services agrees to repay the educational loans of, or provide scholarships to, primary care health professionals. In return, the professionals agree to serve for a specified period of time in a Federally designated HPSA approved by the Secretary. The last survey conducted to analyze retention of NHSC clinicians is more than ten years old. There is a need to distribute a survey to reevaluate the personal/professional development of NHSC clinicians in an effort to retain the clinicians in service providing care for individuals residing in underserved areas. The survey will ask current and former NHSC clinicians questions regarding professional satisfaction, expectations of service in the NHSC, and their experiences at NHSC sites. The survey will also ask questions of NHSC site administrators about their locations and the attributes of current and former NHSC clinicians at these sites.

The estimated response burden for the survey is as follows:

Survey
Instrument | Number of respondents | Responses per respondent | Total responses | Hours per response | Total burden hours
Survey of Site Administrator | 2,000 | 1 | 2,000 | .15 | 300
Survey of NHSC Clinicians in Service | 6,500 | 1 | 6,500 | .13 | 845
Survey of NHSC Alumni (Recent) | 3,000 | 1 | 3,000 | .20 | 600
Survey of NHSC Alumni (Remote) | 1,143 | 1 | 1,143 | .15 | 171
Total | 12,643 | 4 | 12,643 | .63 | 1,916

E-mail comments to paperwork@hrsa.gov or mail the HRSA Reports Clearance Officer, Room 10-33, Parklawn Building, 5600 Fishers Lane, Rockville, MD 20857. Written comments should be received within 60 days of this notice.

Dated: December 8, 2010.
Robert Hendricks,
Director, Division of Policy and Information Coordination.

[FR Doc. 2010-31238 Filed 12-10-10; 8:45 am]

BILLING CODE 4165-15-P